DEPARTMENT OF HEALTH AND HUMAN SERVICES

Centers for Disease Control and Prevention

[30Day-22-1268]

Agency Forms Undergoing Paperwork Reduction Act Review

In accordance with the Paperwork Reduction Act of 1995, the Centers for Disease Control and Prevention (CDC) has submitted the information collection request titled “Drug Overdose Surveillance and Epidemiology (DOSE)” to the Office of Management and Budget (OMB) for review and approval. CDC previously published a “Proposed Data Collection Submitted for Public Comment and Recommendations” notice on April 26, 2021, to obtain comments from the public and affected agencies. CDC received four comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Drug Overdose Surveillance and Epidemiology (DOSE) (OMB Control No. 0920-1268, Exp. 8/31/2022)—Revision—National Center for Injury Prevention and Control (NCIPC), Centers for Disease Control and Prevention (CDC).

Background and Brief Description

In 2020, a total of 91,799 drug overdose deaths occurred, corresponding to an age-adjusted rate of 28.3 per 100,000 population and a 31% increase from the 2019 rate (21.6). From 2013 to 2019, the synthetic opioid-involved death rate increased 1,040%, from 1.0 to 11.4 per 100,000 age-adjusted (3,105 to 36,359). The psychostimulant-involved death rate increased 317%, from 1.2 (3,627) in 2013 to 5.0 (16,167) in 2019. Non-fatal overdoses are on the rise as well; Emergency Department (ED) data from DOSE indicates increases from 2018 to present. In response to the growing severity of the opioid overdose epidemic, the U.S. government declared the opioid overdose epidemic a public health emergency on October 26, 2017. The opioid overdose epidemic is one of the top priorities of the U.S. Department of Health and Human Services (HHS). In 2021, HHS expanded their Overdose Prevention Strategy to focus on four strategic priorities: Primary prevention, harm reduction, evidence-based treatment, and recovery support.

DOSE is a critical element of HHS's first goal under primary prevention to support research and surveillance to collect timelier and more specific data through accelerating the speed at which CDC reports drug overdose data. DOSE data collection integrates, expands, and enhances previous data sharing efforts with public health departments initiated under ESOOS. The goal of DOSE is to conduct surveillance of approximately 75% of all ED visits for drug overdoses through the end of the Overdose Data to Action (OD2A) cooperative agreement in 2023. In 2019, OD2A provided funding for 66 jurisdictions; 47 states and the District of Columbia share data with DOSE. Though we had hoped to capture data from all 50 states and the District of Columbia, only 47 states and the District of Columbia applied for this funding announcement.

Currently, DOSE operates in the 47 states and the District of Columbia currently funded by OD2A (three states did not request CDC funding in the current cycle but may for the next funding cycle in 2023). Of these 48 health departments, 43 share syndromic data with CDC monthly and 26 share at least quarterly discharge data. A total of 33 health departments provide CDC with access to their syndromic surveillance data from EDs in CDC's National Syndromic Surveillance Program (NSSP) system. Access to this timely data has allowed us to improve the situational awareness of federal, state, and local health departments about emerging drug overdose outbreaks and the progression of the opioid overdose epidemic. Health departments have used this data to populate state data dashboards and develop alerts for local communities. In addition, health departments have used this data in concert with public safety partners to gain a better overall picture of outbreaks in their communities.

All data sharing between CDC and health departments in DOSE is driven by two standardized data forms, the Rapid ED overdose data form and the ED discharge overdose data form, and CDC cases definitions of drug, opioid, heroin, fentanyl, all stimulant, cocaine, methamphetamine, benzodiazepine, and other emerging drug overdoses. The Rapid ED Overdose Data Form will be submitted to CDC monthly. For 35 respondents, the estimated burden per response is 30 minutes. For 10 respondents, the estimated burden per response is three hours. The estimated burden per response for the ED Discharge Overdose Data Form is three hours. This form will be submitted four times per year by 28 respondents and once per year by 23 respondents. All information will be collected electronically. The total estimated annualized burden hours are 975.

Estimated Annualized Burden Hours
Type of respondent | Form name | Number of respondents | Number of responses per respondent | Average burden per response (hours)
Participating health departments sharing aggregate data from local syndromic or hospital discharge file | Rapid ED overdose data form | 10 | 12 | 3
Participating health departments sharing case-level ED data with CDC through the NSSP BioSense (OMB No. 0920-0824) | Rapid ED overdose data form | 35 | 12 | 30/60
Participating health department sharing finalized hospital discharge data on a quarterly basis | ED discharge overdose data form | 28 | 4 | 3
Participating health department sharing finalized hospital discharge data on a yearly basis | ED discharge overdose data form | 23 | 1 | 3

Jeffrey M. Zirger,
Lead, Information Collection Review Office, Office of Scientific Integrity, Office of Science, Centers for Disease Control and Prevention.

[FR Doc. 2022-03709 Filed 2-18-22; 8:45 am]

BILLING CODE 4163-19-P